DEPARTMENT OF THE INTERIOR

National Park Service

Notice of Inventory Completion: U.S. Department of Defense, Army Corps of Engineers, Portland District, Portland, OR and University of Oregon Museum of Natural and Cultural History, Eugene, OR

AGENCY: National Park Service, Interior.

ACTION: Notice.

Notice is here given in accordance with the Native American Graves Protection and Repatriation Act (NAGPRA), 25 U.S.C. 3003, of the completion of an inventory of human remains for which the University of Oregon Museum of Natural and Cultural History, Eugene, OR, and U.S. Department of Defense, Army Corps of Engineers, Portland District, Portland, OR, have joint responsibility. The human remains were removed from property that would be later designated Army Corps of Engineers land within the Bonneville Lock and Dam Project area, Wasco County, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the University of Oregon Museum of Natural and Cultural History and U.S. Army Corps of Engineers, Portland District professional staff in consultation with representatives of the Confederated Tribes of the Grand Ronde Community of Oregon, Confederated Tribes of the Warm Springs Reservation of Oregon, and Confederated Tribes and Bands of the Yakama Nation, Washington.

Native American cultural items described in this notice were originally removed from public domain land (prior to U.S. Army Corps of Engineers acquisition of the property) by three private collectors and later donated to the University of Oregon.

At an unknown date during the 1890s, human remains representing one individual were removed from Lower Memaloose Island, Columbia River, Wasco County, OR, by a private collector whose name is withheld, and donated to the University of Oregon in 1938. No known individual was identified. No associated funerary objects are present. Although historic period artifacts were originally found in direct association with the human remains, none were donated to the University of Oregon.

At an unknown date, human remains representing one individual were removed from Lower Memaloose Island, Columbia River, Wasco County, OR, by a private collector whose name is withheld, and donated to the University of Oregon in 1950. No known individual was identified. No information has been found concerning possible burial associations. No associated funerary objects are present.

At an unknown date, human remains representing a minimum of three individuals were removed from an unspecified “sand island in the Columbia River near The Dalles, OR” or Lower Memaloose Island, Columbia River, Wasco County, OR, by an unidentified University of Oregon student, and donated to the University of Oregon in 1913. No known individuals were identified. No information has been found concerning possible burial associations. No associated funerary objects are present.

Lower Memaloose Island is located in the center of the Bonneville Dam Reservoir (Lake Bonneville), approximately 3 river miles west of the city of Lyle, WA, and 8 miles east of Hood River, OR. The island was long-used by local Native American peoples as a cemetery. Based on physical characteristics, osteological evidence, and the location of the human remains on the island, all five individuals have been determined to be Native American.

Lower Memaloose Island is within the traditional territory of Chinookan- and Sahaptin-speaking groups represented by the present-day Confederated Tribes of the Warm Springs Reservation of Oregon and Confederated Tribes and Bands of the Yakama Nation, Washington. Per the 1855 Treaty with the Tribes of Middle Oregon, the Confederated Tribes of the Warm Springs Reservation of Oregon signers were comprised of three Chinookan-speaking Wasco bands and four Sahaptin-speaking Warm Springs bands. The Uto-Aztecan-speaking Northern Paiutes, also part of the Confederated Tribes of the Warm Springs Reservation of Oregon, joined the confederation in the 1870s. The Wasco and Warm Springs bands traditionally occupied the south shore of the Columbia River and its tributaries from Cascade Locks to just east of the present-day city of Arlington, OR. The 14 Sahaptin, Salish, and Chinookan-speaking tribes and bands of the Confederated Tribes and Bands of the Yakama Nation, Washington, traditionally lived on the Washington side of the Columbia River between the eastern flanks of the Cascade Range and the lower reaches of the Yakima River drainage. Representatives of the Confederated Tribes of the Grande Ronde Community of Oregon, whose membership also includes Chinookan-speakers, have indicated that Lower Memaloose Island is outside of their pre-Contact territory.

Officials of the U.S. Army Corps of Engineers, Portland District have determined that, pursuant to 25 U.S.C. 3001 (9-10), the human remains described above represent the physical remains of five individuals of Native American ancestry. Officials of the U.S. Army Corps of Engineers, Portland District also have determined that, pursuant to 25 U.S.C. 3001 (2), there is a relationship of shared group identity that can be reasonably traced between the Native American human remains and the Confederated Tribes of the Warm Springs Reservation of Oregon and/or Confederated Tribes and Bands of the Yakama Nation, Washington.

Representatives of any other Indian tribe that believes itself to be culturally affiliated with the human remains should contact Daniel Mulligan, NAGPRA Coordinator, Environmental Resources Branch, U.S. Army Corps of Engineers, Portland District, P.O. Box 2946, Portland, OR 97208-2946, telephone (503) 808-4768, before November 20, 2008. Repatriation of the human remains to the Confederated Tribes of the Warm Springs Reservation of Oregon and/or Confederated Tribes and Bands of the Yakama Nation, Washington may proceed after that date if no additional claimants come forward.

The U.S. Army Corps of Engineers, Portland District is responsible for notifying the Confederated Tribes of the Grand Ronde Community of Oregon, Confederated Tribes of the Warm Springs Reservation of Oregon, and Confederated Tribes and Bands of the Yakama Nation, Washington that this notice has been published.

Dated: September 10, 2008.
Sherry Hutt,
Manager, National NAGPRA Program.

[FR Doc. E8-24966 Filed 10-20-08; 8:45 am]

BILLING CODE 4312-50-S